DEPARTMENT OF HEALTH AND HUMAN SERVICES

Office of Global Health Affairs; Trans-Atlantic Task Force on Antimicrobial Resistance (TATFAR)

AGENCY: Office of Global Health Affairs, HHS.

ACTION: Notice of public meeting and request for comments.

SUMMARY: The Office of Global Health Affairs is seeking comments and suggestions from the public on the activities of the Trans-Atlantic Taskforce on Antimicrobial Resistance (TATFAR).

DATES: A public meeting will be held in Bethesda, MD, on Friday, October 1, 2010 from 1:30 to approximately 4:30 p.m. Persons wishing to participate, including those who wish to make an oral presentation, must register in advance and provide a copy of their presentation by noon Friday, September 24, 2010.

Deadline for Registration for all Attendees: All Other Attendees must register by noon, Friday, September 24, 2010.

Deadline for Requests for Special Accommodation: Requests for special accommodation should be submitted by noon, Friday, September 17, 2010.

ADDRESSES: Meeting Location: The public meeting will be held on the Campus of the National Institutes of Health, 9000 Rockville Pike, Building 31, Wing C, Room 6, Bethesda, MD 20892.

Submission of Written Comments: Written comments can be e-mailed to OGHA.OS@HHS.gov or sent via regular mail to Elana Clarke, Office of Global Health Affairs, Switzer Building Room 2319, 330 C Street, SW., Washington, DC 20201.

Registration and Special Accommodations: Individuals wishing to participate or who need special accommodations or both must register by contacting Elana Clarke at Elana.Clarke@hhs.gov. See Registration To Attend and/or Participate in the Public Hearing for instructions on how to submit electronic notices of participation.

FOR FURTHER INFORMATION CONTACT: Elana Clarke at Elana.Clarke@hhs.gov or 202 260-0443.

Registration To Attend and/or Participate in the Public Meeting: To ensure there is sufficient room we ask that you pre-register. If you wish to make an oral presentation during the open public comment period of the hearing, state your intention to present on your registration submission. To register, please send an electronic mail message to Elana.Clarke@hhs.gov by the deadline listed under DATES. Your e-mail should include your name and e-mail address.

Please submit a written statement at the time of registration, identifying each focus area you wish to address and the approximate time requested to make your presentation. Organizations should provide this information as well as the names and e-mail addresses of all participants. Registered individuals will be notified of the approximate time scheduled for their presentation prior to the meeting. Depending on the number of presentations, HHS may need to limit the time allotted for presentations.

SUPPLEMENTARY INFORMATION:

1. Background

On November 3, 2009, the United States and the European Union (EU) agreed to establish a task force to focus “on urgent antimicrobial resistance issues focused on appropriate therapeutic use of antimicrobial drugs in the medical and veterinary communities, prevention of both healthcare- and community-associated drug-resistant infections, and strategies for improving the pipeline of new antimicrobial drugs, which could be better addressed by intensified cooperation.” (2009 EU-U.S. Summit Declaration).

The TATFAR is made up of government representatives from the U.S. Department of Health and Human Services for the United States and from the European Commission, European Union agencies, and representatives of three EU member states for the EU. Information about the TATFAR is available at: http://ecdc.europa.eu/en/activities/diseaseprogrammes/TATFAR/Pages/index.aspx.

2. Public Comment and Meeting

The public meeting process provides an opportunity for the public to become aware of the activities of the TATFAR to date. In addition, OGHA invites written comments and/or oral presentations of interested persons on the three focus areas of the TATFAR as defined in the 2009 EU/US Summit Declaration:

• Appropriate therapeutic use of antimicrobial drugs in the medical and veterinary communities,

• Prevention of both healthcare- and community-associated drug-resistant infections, and

• Strategies for improving the pipeline of new antimicrobial drugs.

Comments should identify specific antimicrobial resistance-related activities in these three areas where intensified cooperation between the United States and the European Union could have the most impact, keeping in mind that the work of the TATFAR will be carried out using currently available resources. In particular, input is sought on activities that can be undertaken in the near-term, with a reasonable possibility of completion over the next 12-15 months.

Written comments submitted by e-mail should use the following subject line “TATFAR Comments.” Comments and any documentation may be submitted as Adobe PDF, MSWord or Text (.txt) files. Written comments submitted by regular mail should clearly identify “TATFAR Comments” as the subject.

3. Building and Security Guidelines

The meeting is being held in a Federal government building; therefore, Federal security measures are applicable. In planning your arrival time, please take account of the need to clear security. All visitors must enter through the NIH Gateway Center and must present government-issued photo identification. All persons entering the building must pass through a metal detector. All items brought to HHS are subject to inspection. For more information on NIH security requirements for visitors, please go to: http://www.nih.gov/about/visitorsecurity.htm.

Signed: August 23, 2010.
Nils Daulaire,
Director, Office of Global Health Affairs.

[FR Doc. 2010-21351 Filed 8-26-10; 8:45 am]

BILLING CODE 4150-38-P